DEPARTMENT OF HEALTH AND HUMAN SERVICES

Health Resources and Services Administration

Agency Information Collection Activities: Submission to OMB for Review and Approval; Public Comment Request; Rural Health Clinic COVID-19 Reporting Portal, OMB No. 0906-0056—Revision

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this Notice has closed.

DATES: Comments on this ICR should be received no later than April 18, 2022.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the acting HRSA Information Collection Clearance Officer at paperwork@hrsa.gov or call (301) 443-9094.

SUPPLEMENTARY INFORMATION:

Information Collection Request Title: Rural Health Clinic COVID-19 (RHC COVID-19) Reporting Portal, OMB No. 0906-0056—Revision.

Abstract: In October 2020, HRSA's Federal Office of Rural Health Policy (FORHP) created a monthly, aggregate data report to collect information on COVID-19 testing and related expenses conducted by funded organizations participating in the RHC COVID-19 Testing (RHCCT) Program funded through the Paycheck Protection Program and Health Care Enhancement Act (Pub. L. 116-139). FORHP is expanding this data report to collect information on COVID-19 testing, COVID-19 mitigation, and related expenses conducted by funded organizations participating in the RHC COVID-19 Testing and Mitigation (RHCCTM) Program funded through the American Rescue Plan Act (Pub. L. 117-2). Funded organizations were identified by Tax Identification Number (TIN), and a TIN organization may operate one or more RHC sites which were identified by unique CMS Certification Numbers. Respondents are TIN organizations who received funding for COVID-19 testing, COVID-19 mitigation, and related expenses. HRSA issued RHCCTM funding as one-time payments to 2,301 TIN organizations based on the number of certified RHC sites they operate, providing $100,000 per clinic site (4,459 RHC sites total across the country). Data report information is needed to comply with federal requirements to monitor funds distributed under the Paycheck Protection Program and Health Care Enhancement Act and the American Rescue Plan Act.

A 60-day notice published in the Federal Register, 87 FR 103 (January 3, 2022). There were no public comments.

Need and Proposed Use of the Information: The RHC COVID-19 Reporting Portal collects information from RHC-funded providers who use RHCCT Program funding and RHCCTM Program funding to support COVID-19 testing, expand access to testing in rural communities, and other related expenses. The RHC COVID-19 Reporting Portal also collects information from RHC-funded providers who use RHCCTM Program funding to support COVID-19 mitigation and other related expenses. These data are critical to meet FORHP's requirements to monitor and report on how federal funding is being used and to measure the effectiveness of the RHCCT Program and RHCCTM Program. Revisions include a confirmation page for TIN organization self-certification following completion of each program after the period of availability. Specifically, these data will be used to assess the following:

• Whether program funds are being spent for their intended purposes;

• COVID-19 testing or testing related use(s) of RHCCTM funds;

• COVID-19 mitigation or mitigation related use(s) of RHCCTM funds;

• Where COVID-19 testing supported by these funds is occurring;

• Number of at-home (i.e., home collection; direct-to-consumer; over-the-counter) COVID-19 tests distributed (optional);

• Number of COVID-19 tests;

• Number of positive COVID-19 tests;

• TIN organizations self-certification of complete expenditure of RHCCT Program funds and/or full or partial return of RHCCT Program funds; and

• TIN organizations self-certification of complete expenditure of RHCCTM Program funds and/or full or partial return of RHCCTM Program funds.

Likely Respondents: Respondents are TIN organizations who own or operate one or more RHC who received funding for COVID-19 testing, COVID-19 mitigation, and related expenses.

Burden Statement: Burden in this context means the time expended by persons to generate, maintain, retain, disclose or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
RHC COVID-19 Reporting Portal | 2,301 | 19 | 43,719 | 0.33 | 14,427
Total | 2,301 |  | 43,719 |  | 14,427

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2022-05719 Filed 3-17-22; 8:45 am]

BILLING CODE 4165-15-P